DEPARTMENT OF THE INTERIOR

[NPS-WASO-NAGPRA-11156; 2200-1100-665]

Notice of Inventory Completion: U.S. Department of the Interior, National Park Service, Wupatki National Monument, Flagstaff, AZ

AGENCY: National Park Service, Interior.

ACTION: Notice.

SUMMARY: The U.S. Department of the Interior, National Park Service, Wupatki National Monument has completed an inventory of human remains and associated funerary objects, in consultation with the appropriate Indian tribes, and has determined that there is a cultural affiliation between the human remains and associated funerary objects and present-day Indian tribes. Representatives of any Indian tribe that believes itself to be culturally affiliated with the human remains and associated funerary objects may contact Wupatki National Monument. Repatriation of the human remains and associated funerary objects to the Indian tribes stated below may occur if no additional claimants come forward.

DATES: Representatives of any Indian tribe that believes it has a cultural affiliation with the human remains and associated funerary objects should contact Wupatki National Monument at the address below by October 29, 2012.

ADDRESSES: Diane Chung, Superintendent, Wupatki National Monument, 6400 N. Hwy 89, Flagstaff, AZ 86004, telephone (928) 526-1157 ext. 227.

SUPPLEMENTARY INFORMATION: Notice is here given in accordance with the Native American Graves Protection and Repatriation Act (NAGPRA), 25 U.S.C. 3003, of the completion of an inventory of human remains and associated funerary objects in the possession or control of Wupatki National Monument, Flagstaff, AZ. The human remains and associated funerary objects were removed from three sites within the boundaries of Wupatki National Monument in Coconino County, AZ.

This notice is published as part of the National Park Service's administrative responsibilities under NAGPRA, 25 U.S.C. 3003(d)(3). The determinations in this notice are the sole responsibility of the Superintendent, Wupatki National Monument.

Consultation

A detailed assessment of the human remains was made by Wupatki National Monument professional staff in consultation with representatives of the Fort McDowell Yavapai Nation, Arizona; Havasupai Tribe of the Havasupai Reservation, Arizona; Hopi Tribe of Arizona; Hualapai Indian Tribe of the Hualapai Indian Reservation, Arizona; Jicarilla Apache Nation, New Mexico; Kaibab Band of Paiute Indians of the Kaibab Indian Reservation, Arizona; Kewa Pueblo, New Mexico (formerly the Pueblo of Santo Domingo); Mescalero Apache Tribe of the Mescalero Reservation, New Mexico; Navajo Nation, Arizona, New Mexico & Utah; Ohkay Owingeh, New Mexico (formerly the Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; San Carlos Apache Tribe of the San Carlos Reservation, Arizona; San Juan Southern Paiute Tribe of Arizona; Tonto Apache Tribe of Arizona; White Mountain Apache Tribe of the Fort Apache Reservation, Arizona; Yavapai-Apache Nation of the Camp Verde Indian Reservation, Arizona; Yavapai-Prescott Tribe of the Yavapai Reservation, Arizona; Ysleta del Sur Pueblo of Texas; and Zuni Tribe of the Zuni Reservation, New Mexico. The Pueblo of San Felipe, New Mexico, was contacted, but did not have an internal process to address the issue of repatriation. Hereafter, all tribes listed above are referred to as “The Tribes.”

History and Description of the Remains

Between 1933 and 1983, during excavations, stabilizations, and surface recoveries by the Museum of Northern Arizona and the National Park Service, human remains representing a minimum of 233 individuals were removed from Wupatki Pueblo, within Wupatki National Monument in Coconino County, AZ. Some of the human remains and associated funerary objects are in the physical custody of the Museum of Northern Arizona in Flagstaff, AZ. No known individuals were identified. The 481 associated funerary objects are 1 concretion, 10 pendants, 12 bracelets, 1 necklace, 1 mat, 1 scraper, 107 sherds, 1 bag of sherds, 2 ceramic artifacts, 103 beads, 35 bowls, 12 jars, 4 pitchers, 31 animal bones, 1 worked bone, 1 worked stone, 1 bag of limonite, 1 piece of azurite, 137 bird bones, 3 shells, 1 shell tinkler, 3 awls, 1 basket fragment, 2 mosaics, 2 pieces of cloth, 1 projectile point, 1 flake, 1 effigy bowl, 1 seed bowl, 1 ladle, 1 stone, and 1 shell dish.

All of the human remains have been analyzed by physical anthropologists who have determined them to be Native American. All burials were excavated from within the rooms or the midden immediately adjacent to and contemporaneous with the site. Some individuals were found in extended, supine positions, sometimes covered with matting and clay and in sandstone-lined cists, while others were found flexed at the knees on their sides or back. One cremation in a ceramic pot was also found. On the basis of architecture and ceramics, Wupatki Pueblo is dated to A.D. 900-1300.

Evidence demonstrating continuity between the people of Wupatki from A.D. 900-1300 and the Hopi Tribe of Arizona and the Zuni Tribe of the Zuni Reservation, New Mexico, includes similarities in material culture, architecture, mortuary practices, settlement patterns, and agricultural methods. Both Hopi and Zuni oral histories indicate connections to the people of Wupatki Pueblo, and both tribes trace clans there.

In 1934, human remains representing a minimum of four individuals were removed from Nalakihu Pueblo, within Wupatki National Monument in Coconino County, AZ, during a Civil Works Administration excavation conducted by the Museum of Northern Arizona. The human remains and associated funerary objects are in the physical custody of the Museum of Northern Arizona in Flagstaff, AZ. No known individuals were identified. The 39 associated funerary objects are 8 animal bones, 1 bowl, 1 jar, 1 bird bone, 1 shell bracelet, 9 shell beads, 1 corn stalk with blue paint, 1 painted wooden staff, 1 pot lid, and 15 pieces of turquoise.

All of the human remains have been analyzed by physical anthropologists who have determined them to be Native American. All burials were excavated from burial pits within the midden immediately adjacent to and contemporaneous with the site. Some individuals were found in extended, supine positions, while others were found in flexed, supine positions. On the basis of architecture and ceramics, Nalakihu Pueblo is dated to A.D. 1150-1300.

Evidence demonstrating continuity between the people of Nalakihu from A.D. 1150-1300 and the Hopi Tribe of Arizona and the Zuni Tribe of the Zuni Reservation, New Mexico, includes similarities in material culture, architecture, mortuary practices, settlement patterns, and agricultural methods. Both Hopi and Zuni oral histories indicate connections to the people of Nalakihu Pueblo.

In 1948, human remains representing a minimum of five individuals were removed from House of Tragedy, within Wupatki National Monument in Coconino County, AZ, during an excavation conducted by the Museum of Northern Arizona. The human remains and associated funerary objects are in the physical custody of the Museum of Northern Arizona in Flagstaff, AZ. No known individuals were identified. The one associated funerary object is a basalt knife.

All of the human remains have been analyzed by physical anthropologists who have determined them to be Native American. All burials were excavated from a room, kiva, or pit within and contemporaneous with the site. On the basis of architecture and ceramics, House of Tragedy is dated to A.D. 1150-1300.

Evidence demonstrating continuity between the people at House of Tragedy during A.D. 1150-1300 and the Hopi Tribe of Arizona and the Zuni Tribe of the Zuni Reservation, New Mexico, includes similarities in material culture, architecture, settlement patterns, and agricultural methods. For example, one type of object discovered at House of Tragedy can also be found on contemporary Hopi and Zuni altars.

Determinations Made by Wupatki National Monument

Officials of Wupatki National Monument have determined that:

• Pursuant to 25 U.S.C. 3001(9), the human remains described in this notice represent the physical remains of 242 individuals of Native American ancestry.

• Pursuant to 25 U.S.C. 3001(3)(A), the 521 objects described above are reasonably believed to have been placed with or near individual human remains at the time of death or later as part of the death rite or ceremony.

• Pursuant to 25 U.S.C. 3001(2), there is a relationship of shared group identity that can be reasonably traced between the Native American human remains and associated funerary objects and the Hopi Tribe of Arizona and the Zuni Tribe of the Zuni Reservation, New Mexico.

Additional Requestors and Disposition

Representatives of any Indian tribe that believes itself to be culturally affiliated with the human remains and associated funerary objects should contact Diane Chung, Superintendent, Wupatki National Monument, 6400 N. Hwy 89, Flagstaff, AZ 86004, telephone (928) 526-1157 ext. 227, before October 29, 2012. Repatriation of the human remains and associated funerary objects to the Hopi Tribe of Arizona and the Zuni Tribe of the Zuni Reservation, New Mexico, may proceed after that date if no additional claimants come forward.

Wupatki National Monument is responsible for notifying The Tribes that this notice has been published.

Dated: August 24, 2012.
Melanie O'Brien,
Acting Manager, National NAGPRA.

[FR Doc. 2012-23904 Filed 9-27-12; 8:45 am]

BILLING CODE 4312-50-P